DEPARTMENT OF COMMERCE

Internationl Trade Administration

[A-570-888]

Floor-Standing, Metal-Top Ironing Tables and Certain Parts Thereof From the People's Republic of China: Postponement of Preliminary Determination of Antidumping Duty Investigation

AGENCY: Import Administration, International Trade Administration, Department of Commerce.

EFFECTIVE DATE: November 28, 2003.

FOR FURTHER INFORMATION CONTACT: Paige Rivas or Sam Zengotitabengoa at (202) 482-0651 or (202) 482-4195, respectively; AD/CVD Enforcement, Office 4, Group II, Import Administration, Room 1870, International Trade Administration, U.S. Department of Commerce, 14th Street and Constitution Avenue, NW., Washington, DC 20230.

SUPPLEMENTARY INFORMATION:

Statutory Time Limits

Section 733(b)(1)(A) of the Tariff Act of 1930, as amended (the Act), requires the Department of Commerce (the Department) to issue the preliminary determination of an antidumping duty investigation within 140 days after the date of initiation. However, if the petitioner makes a timely request for an extension of the period, section 733(c)(1)(A) of the Act allows the Department to postpone the preliminary determination until not later than 190 days after the date of initiation.

Background

On July 21, 2003, the Department initiated an antidumping duty investigation on floor-standing, metal-top ironing tables and certain parts thereof from the People's Republic of China. See Notice of Initiation of Antidumping Investigation: Floor-Standing, Metal-Top Ironing Tables and Certain Parts Thereof from the People's Republic of China, 68 FR 44040 (July 25, 2003). The notice states that the Department will issue its preliminary determination no later than 140 days after the date of initiation. The preliminary determination currently is due no later than December 7, 2003.

Extension of Preliminary Determination

On November 7, 2003, the Department received a timely request for postponement of the preliminary determination from Home Products International, Inc. (the petitioner), in accordance with section 733(c)(1)(A) of the Act and 19 CFR 351.205(e). The Department has reviewed the petitioner's request for postponement and agrees to postpone this preliminary determination. Therefore, pursuant to section 733(c)(1)(A) of the Act, the Department is postponing the preliminary determination until January 26, 2004.

This notice of postponement is in accordance with section 733(c)(2) of the Act and 19 CFR 351.205(f).

Dated: November 21, 2003.
James J. Jochum,
Assistant Secretary for Import Administration.

[FR Doc. 03-29719 Filed 11-26-03; 8:45 am]

BILLING CODE 3510-DS-P